DEPARTMENT OF DEFENSE

Department of the Army

Intent To Grant an Exclusive License of U.S. Government-Owned Patents

AGENCY: Department of the Army, DoD.

ACTION: Notice.

SUMMARY: In accordance with 35 U.S.C. 209 (e) and 37 CFR 404.7 (a)(1)(i), announcement is made of the intent to grant an exclusive, royalty-bearing, revocable license to US Patent number 7,702,473, issued April 20, 2010, entitled, “Submersible portable in-situ automated water quality biomonitoring apparatus and method” and US Patent number 6,988,394, issued January 24, 2006, entitled, “Apparatus and method of portable automated biomonitoring of water quality” and US Patent number 6,393,899, issued May 28, 2002, entitled, “Apparatus and method for automated biomonitoring of water quality” and US Patent number 6,058,763 issued May 9, 2000, entitled, “Apparatus and method for automated biomonitoring of water quality” and Canada Patent number 2,515,062 issued April 17, 2012, entitled “Apparatus and method of portable automated biomonitoring of water quality” to Solution Resources, LLC, with its principal place of business at 7906 Juniper Drive, Frederick, MD 21702.

ADDRESSES: Commander, U.S. Army Medical Research and Materiel Command, ATTN: Command Judge Advocate, MCMR-JA, 504 Scott Street, Fort Detrick, MD 21702-5012.

FOR FURTHER INFORMATION CONTACT: For licensing issues, Mr. Barry Datlof, Office of Research & Technology Assessment, (301) 619-0033. For patent issues, Ms. Elizabeth Arwine, Patent Attorney, (301) 619-7808, both at telefax (301) 619-5034.

SUPPLEMENTARY INFORMATION: Anyone wishing to object to the grant of this license can file written objections along with supporting evidence, if any, within 15 days from the date of this publication. Written objections are to be filed with the Command Judge Advocate (see ADDRESSES).

Brenda S. Bowen,
Army Federal Register Liaison Officer.

[FR Doc. 2015-13419 Filed 6-2-15; 8:45 am]

BILLING CODE 3710-08-P